DEPARTMENT OF STATE

[Public Notice 3703]

Bureau of Educational and Cultural Affairs Request for Grant Proposals: Future Leaders Exchange Civic Education Workshops

SUMMARY: The Office of Citizen Exchanges, Youth Programs Division of the Bureau of Educational and Cultural Affairs announces an open competition to conduct spring 2002 and spring 2003 Civic Education workshops for the Future Leaders Exchange (FLEX) program. Overall goals of the workshops are: (1) To expose high school students from the New Independent States (NIS) of the former Soviet Union to federal political processes and citizen participation in government at the national level; (2) to examine the concept of effective leadership in society through looking at positive and negative examples and role models; and (3) to provide students with specific tools they can take home to aid in the transformation of their home countries to democratic and civil societies. Public and private non-profit organizations meeting the provisions described in IRS regulation 26 CFR 1.501(c) may submit proposals to develop and conduct a one-week workshop in Washington, DC, in Spring 2002 and Spring 2003 that focuses on the basic tenets of the Constitution and the fundamental elements of a civil society, including the relationship between the federal government and state and local governments, and the rule of law in a civil society. Each workshop should include approximately 110 high school students from the NIS who are attending school in the United States during 2001/02 and 2002/03. Workshop participants will be selected through an essay contest from among a group of 1,211 students who are participating in the Division's FLEX program. Competitive proposals will demonstrate a method for substantive and specific measurement of whether the goals listed above have been achieved. The maximum grant award will be $290,000. Only one grant will be awarded. Provision of cost sharing to maximize the number of participants will be looked at very favorably.

Program Information

The recipient of the grant is responsible for developing and conducting the Civic Education workshop based on guidelines set forth by the Division. The grantee organization will also be responsible for coordinating travel arrangements for each participant from his/her host community to Washington, DC and return, and for providing room and board for students during their time in Washington. Proposals must demonstrate flexibility and a willingness to work with the Department of State and the Bureau in arranging certain briefings and visits, as the opportunity arises.

Overview: These workshops should enable participants to learn firsthand about the federal system of government, observe government institutions, hear about and discuss issues on the federal agenda, and interact with government officials. Special attention should be paid to those issues that will be especially significant to people from the former Soviet Union. The workshops should also provide an opportunity for participants to gain a broader understanding of democratic concepts and values that are such an integral part of American society and culture, such as citizen empowerment, volunteerism, community action, and debate. The program should be arranged for seven days, including arrival and departure.

The grantee organization will be provided with the names of the students who will have been chosen through a competitive essay contest. The essays will have been reviewed by independent, objective selectors. Winning essays will be sent to the grantee organization, as well.

Guidelines: The workshops should be held in late winter or early Spring 2002 and Spring 2003. Proposals must effectively describe the organization's ability to accomplish the following essential components of the program:

1. Provide a Civic Education workshop in Washington, DC, as described above and held at the time period indicated. Program components should include sessions on federalism, U.S. domestic and foreign policy, the role of the media in the United States, citizen empowerment, volunteerism and community activism. Leadership should be a sub-theme throughout the program and should include the effective exercise of leadership in the political process.

2. Provide pre-program training for organization staff on NIS society and culture.

3. Provide housing and meals for the students throughout the program.

4. Arrange travel for students from their U.S. host communities to Washington, DC, and return in coordination with FLEX placement organizations. (Note: Students will likely be coming from most of the 50 states.) Provide ground transportation for students in the DC area, including to and from airports.

5. Provide opportunities to attend cultural events and visit museums and monuments.

6. Coordinate with the Bureau's Youth Programs Division (ECA/PE/C/PY) and the Department's Office of Congressional Affairs (H) in making appropriate arrangements for individual meetings for all workshop participants with their respective members of Congress (either Senator or Representative).

7. Provide staff to assist in case of medical emergencies.

8. Incorporate a program component designed to facilitate students' transition from the DC program to their host communities. Include a description of the ways in which students will be encouraged to share what they have learned, both in their U.S. host communities and when they return to their home countries.

9. Provide a mechanism for evaluation of the program in terms of its impact on the students and its success in fulfilling the objectives.

A competitive proposal will incorporate important elements of American culture in sessions that are largely interactive and designed to appeal to high school-age students. The program must be substantive and academic while, at the same time, be paced realistically to meet the needs of young people.

Significant cost sharing is important since it will enable a greater number of students to participate. Therefore, those proposals that show more generous and creative cost sharing will be more favorably viewed. Please refer to the Program Objectives, Goals, and Implementation (POGI) section of the Solicitation Package for greater detail regarding the design of component parts as well as other program information.

Budget Guidelines

Organizations must arrange a program and submit a proposal and budget for a minimum of 110 students but may increase the number of participants through cost sharing the additional expenses incurred. Proposals that maximize the number of students will be favorably viewed. One grant will be awarded for this activity. It is estimated that the total costs of the Civic Education workshop will average $1,300 per NIS participant for a one-week program, including U.S. domestic travel costs.

Grants awarded to eligible organizations with less than four years of experience in conducting international exchange programs will be limited to $60,000. The Bureau anticipates awarding one grant in the amount of $290,000 to support program and administrative costs required to implement these two workshops. Awards will not exceed $290,000. The Bureau encourages applicants to provide maximum levels of cost-sharing and funding from private sources in support of its programs.

Applicants must submit a comprehensive budget for the entire program. There must be a summary budget as well as breakdowns reflecting both administrative and program budgets. Applicants may provide separate sub-budgets for each program component, phase, location, or activity to provide clarification. Please refer to the Solicitation Package for further details, including a list of allowable costs for the program, complete budget guidelines, and formatting instructions. Please note that all workshop participants will be covered by health insurance under separate grants to their placement organizations.

Announcement Title and Number

All correspondence with the Bureau concerning this RFGP should reference the above title and number ECA/PE/C/PY-02-04.

FOR FURTHER INFORMATION, CONTACT: The Office of Citizen Exchanges, Youth Programs Division (ECA/PE/C/PY), Room 568, U.S. Department of State, 301 4th Street, S.W., Washington, DC 20547, telephone (202) 619-6299; fax (202) 619-5311; e-mail: lbeach@pd.state.gov to request a Solicitation Package. The Solicitation Package contains detailed award criteria, required application forms, specific budget instructions, and standard guidelines for proposal preparation. Please specify Bureau Program Manager Diana Aronson on all other inquiries and correspondence.

Please read the complete Federal Register announcement before sending inquiries or submitting proposals. Once the RFGP deadline has passed, Bureau staff may not discuss this competition with applicants until the proposal review process has been completed.

To Download a Solicitation Package Via Internet

The entire Solicitation Package may be downloaded from the Bureau's website at http://exchanges.state.gov/education/RFGPs. Please read all information before downloading.

Deadline for Proposals

All proposal copies must be received at the Bureau of Educational and Cultural Affairs by 5 p.m. Washington, DC time on Monday, August 6, 2001. Faxed documents will not be accepted at any time. Documents postmarked the due date but received on a later date will not be accepted. Each applicant must ensure that the proposals are received by the above deadline.

Applicants must follow all instructions in the Solicitation Package. The original and 8 copies of the application should be sent to: U.S. Department of State, SA-44, Bureau of Educational and Cultural Affairs, Ref.: ECA/PE/C/PY-02-04, Program Management, ECA/EX/PM, Room 534, 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy, the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office. Eligible proposals will be subject to compliance with Federal and Bureau regulations and guidelines and forwarded to Bureau grant panels for advisory review. Proposals may also be reviewed by the Office of the Legal Adviser or by other Department elements. Final funding decisions are at the discretion of the Department of State's Acting Assistant Secretary for Educational and Cultural Affairs. Final technical authority for assistance awards, grants, or cooperative agreements resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission, as well as the objectives of the FLEX program. Program design must reflect an understanding of young people and of cultural traits that would be specific to this population.

2. Program planning: Detailed agenda and relevant work plan should demonstrate substantive undertakings and logistical capacity. Agenda and plan should adhere to the program overview and guidelines described above.

3. Ability to achieve program objectives: Objectives should be reasonable, feasible, and flexible. Proposals should clearly demonstrate how the institution will meet the program's objectives and plan.

4. Multiplier effect/impact/follow on: Proposed programs should describe the impact that workshop participants will have on others, both in their U.S. host communities and in the NIS after they return home. There should be a plan for providing students with tools they can take back to their NIS home countries to implement concepts and ideas they have gained from the workshop. Proposals also should explain how students will be prepared to transition back to their host communities.

5. Support of diversity: Proposals should demonstrate substantive support of the Bureau's policy on diversity. Achievable and relevant features should be cited in both program administration (selection of participants, program venue and program evaluation) and program content (orientation and wrap-up sessions, program meetings, resource materials and follow-up activities).

6. Institutional capacity: Proposed personnel and institutional resources should be adequate and appropriate to achieve the program or project's goals.

7. Institution's record/ability: Proposals should demonstrate an institutional record of successful exchange programs, including responsible fiscal management and full compliance with all reporting requirements for past Bureau grants as determined by Bureau Grant Staff. The Bureau will consider the past performance of prior recipients and the demonstrated potential of new applicants.

8. Project evaluation: Proposals should include a plan to evaluate the activity's success, both as the activities unfold and at the end of the program. A draft survey questionnaire or other technique plus description of a methodology to use to link outcomes to original project objectives is recommended. The successful applicant will be expected to submit a final report.

9. Cost-effectiveness/cost-sharing: The overhead and administrative components of the proposal, including salaries and honoraria, should be kept as low as possible. All other items should be necessary and appropriate. Proposals should maximize cost-sharing through other private sector support as well as institutional direct funding contributions.

Authority

Overall grant making authority for this program is contained in the Mutual Educational and Cultural Exchange Act of 1961,Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through the Freedom Support Act of 1992.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: June 8, 2001.
Helena Kane Finn,
Acting Assistant Secretary for Educational and Cultural Affairs, U.S. Department of State.

[FR Doc. 01-15542 Filed 6-20-01; 8:45 am]

BILLING CODE 4710-05-U